NATIONAL SCIENCE FOUNDATION

Proposal Review Panel for Materials Research; Notice of Meeting

In accordance with the Federal Advisory Committee Act (Pub. L. 92-463, as amended), the National Science Foundation (NSF) announces the following meeting:

Name and Committee Code: University of Wisconsin-Madison MRSEC 2nd year Site Visit (1203).

Date and Time: Wednesday, April 17, 2019; 7:30 a.m.-3:45 p.m.

Place: University of Wisconsin-Madison, 3115 Engineering Centers Building, 1550 Engineering Drive, Madison, WI 53706.

Type of Meeting: Part-Open.

Contact Person: Dr. Daniele Finotello, Program Director, Division of Materials Research, National Science Foundation, 2415 Eisenhower Avenue, Room W 9216, Alexandria, VA 22314; Telephone: (703) 292-4432.

Purpose of Meeting: Site visit to provide an evaluation of the progress of the projects at the host site for the Division of Materials Research at the National Science Foundation.

Agenda

April 17, 2019:
07:30 a.m.-08:30 a.m | Breakfast—NSF PDs and Site Visit Team
08:30 a.m.-09:00 a.m | Transfer to Meeting Site, Introductions, Setup
09:00 a.m.-09:45 a.m | Directors Overview
09:45 a.m.-10:00 a.m | Discussion
10:00 a.m.-10:25 a.m | IRG-1 Presentation
10:25 a.m.-10:30 a.m | IRG-1 Discussion
10:30 a.m.-10:45 a.m | Break
10:45 a.m.-11:10 a.m | IRG-2 Presentation
11:10 a.m.-11:15 a.m | RG-2 Discussion
11:15 a.m.-11:40 a.m | Education and Outreach Presentation
11:40 a.m.-11:45 a.m | Education and Outreach Discussion
11:45 a.m.-12:10 p.m | NSF PDs and Site Visit Team | CLOSED.
12:10 p.m.-01:10 p.m | Lunch.
01:15 p.m.-02:15 p.m | Poster Session
02:15 p.m.-02:30 p.m | Panel & NSF Meet MRSEC Director/Exec. Com
02:30 p.m.-03:15 p.m | NSF PDs and Site Visit Team | CLOSED.
03:15 p.m.-03:45 p.m | Debriefing
03:45 p.m | Adjourn.

Reason for Closing: The work being reviewed during closed portions of the site visit include information of a proprietary or confidential nature, including technical information; financial data, such as salaries and personal information concerning individuals associated with the project. These matters are exempt under 5 U.S.C. 552b(c), (4) and (6) of the Government in the Sunshine Act.

Dated: February 6, 2019.
Crystal Robinson,
Committee Management Officer.

[FR Doc. 2019-01895 Filed 2-8-19; 8:45 am]

BILLING CODE 7555-01-P